POSTAL SERVICE

Notice of Intent To Prepare an Environmental Impact Statement for the Proposed Construction and Operation of a Mail Processing Facility in Aliso Viejo, CA; Extension of Time for Comment

AGENCY: Postal Service.

ACTION: Notice; extension of comment period.

SUMMARY: On February 12, 2008, the Postal Service published in the Federal Register (73 FR 8076) a notice that, in accordance with the National Environmental Policy Act (NEPA), it intended to prepare an environmental impact statement (EIS) for the proposed construction and operation of a mail processing facility in Aliso Viejo, Orange County, California. The notice invited the public to participate in the project scoping process, to review and comment on the draft EIS, and to attend public meetings. The Postal Service requested written scoping comments by March 9, 2008. The Postal Service is extending the comment period to March 13, 2008.

DATES: Please submit written scoping comments by March 13, 2008.

To solicit public comments, a public scoping hearing will be held from 5:30 to 8:30 p.m. on February 27, 2008, at the Wood Canyon Elementary School, 23431 Knollwood Avenue, Aliso Viejo, California; (949) 448-0012.

ADDRESSES: To submit comments, request copies of the draft EIS or final EIS when available, or for more information, contact Emmy Andrews, Pacific Facilities Service Office, United States Postal Service, 395 Oyster Point Boulevard, Suite 225, South San Francisco, CA 94080-0300; (650) 615-7200.

FOR FURTHER INFORMATION CONTACT: Emmy Andrews, (650) 615-7200.

Neva R. Watson,
Attorney, Legislative.

[FR Doc. E8-4455 Filed 3-6-08; 8:45 am]

BILLING CODE 7710-12-P